FEDERAL COMMUNICATIONS COMMISSION

47 CFR Part 1

[GN Docket No. 12-268, WT Docket Nos. 14-70, 05-211, RM-11395; FCC 15-80]

Updating Competitive Bidding Rules

AGENCY: Federal Communications Commission.

ACTION: Announcement of effective date.

SUMMARY: In this document, the Federal Communications Commission (Commission) announces that the Office of Management and Budget (OMB) has approved the information collection requirements associated with the FCC 15-80, Updating Part 1 Competitive Bidding Rules, published on September 18, 2015. This document is consistent with FCC 15-80, which stated that the Commission would publish a document in the Federal Register announcing OMB approval and the effective date of changes to the forms.

DATES: FCC 15-80 and the changes to FCC Form 603 and FCC Form 608 published at 80 FR 56764 will become effective on June 30, 2017.

FOR FURTHER INFORMATION CONTACT: Cathy Williams by email at Cathy.Williams@fcc.gov and telephone at (202) 418-2918.

SUPPLEMENTARY INFORMATION: This document announces that on June 8, 2017, OMB approved the information collection requirements, OMB Control Numbers 3060-0800 and 3060-1058, for changes to the FCC Forms 603 and 608.

Synopsis

As required by the Paperwork Reduction Act of 1995 (44 U.S.C. 3507), the FCC is notifying the public that on June 8, 2017, OMB approved changes to FCC Form 603 and FCC Form 608. In doing so, OMB approved changes to the information collection requirements of OMB Control Numbers 3060-0800 and 3060-1058. Under 5 CFR part 1320, an agency may not conduct or sponsor a collection of information unless it displays a current, valid OMB Control Number. No person shall be subject to any penalty for failing to comply with a collection of information subject to the Paperwork Reduction Act that does not display a current, valid OMB Control Number. The OMB Control Numbers are 3060-0800 and 3060-1058.

The foregoing notice is required by the Paperwork Reduction Act of 1995, Public Law 104-13, October 1, 1995, and 44 U.S.C. 3507.

The total annual reporting burdens and costs for the respondents are as follows:

OMB Control Number: 3060-0800.

OMB Approval Date: June 8, 2017.

OMB Expiration Date: June 30, 2020.

Title: FCC Application for Assignments of Authorization and Transfers of Control: Wireless Telecommunications Bureau and/or Public Safety and Homeland Security Bureau.

Form Number: FCC Forms 603.

Respondents: Individuals and households; Business or other for-profit entities; Not-for-profit institutions; and State, local or tribal government.

Number of Respondents and Responses: 2,447 respondents and 2,447 responses.

Estimated Time per Response: 0.5-1.75 hours.

Frequency of Response: Recordkeeping requirement, on occasion reporting requirement and periodic reporting requirement.

Obligation to Respond: Required to obtain or retain benefits. The statutory authority for this collection of information is contained in 47 U.S.C. 154, 155, 158, 161, 301, 303(r), 308, 309, 310 and 332.

Total Annual Burden: 2,759 hours.

Total Annual Cost: $366,975.

Nature and Extent of Confidentiality: In general, there is no need for confidentiality with this collection of information.

Privacy Act Impact Assessment: Yes.

Needs and Uses: FCC Form 603 is a multi-purpose form used to apply for approval of assignment or transfer of control of licenses in the wireless services. The data collected on this form is used by the FCC to determine whether the public interest would be served by approval of the requested assignment or transfer. This form is also used to notify the Commission of consummated assignments and transfers of wireless and/or public safety licenses that have previously been consented to by the Commission or for which notification but not prior consent is required. This form is used by applicants/licensees in the Advanced Wireless Services, Public Mobile Services, Personal Communications Services, General Wireless Communications Services, Private Land Mobile Radio Services, Broadcast Auxiliary Services, Broadband Radio Services, Educational Radio Services, Fixed Microwave Services, Maritime Services (excluding ships), and Aviation Services (excluding aircraft).

The purpose of this form is to obtain information sufficient to identify the parties to the proposed assignment or transfer, establish the parties' basic eligibility and qualifications, classify the filing, and determine the nature of the proposed service. Various technical schedules are required along with the main form applicable to Auctioned Services, Partitioning and Disaggregation, Undefined Geographical Area Partitioning, Notification of Consummation or Request for Extension of Time for Consummation.

The data collected on FCC Form 603 includes the FCC Registration Number (FRN), which serves as a “common link” for all filings an entity has with the FCC. The Debt Collection Improvement Act of 1996 requires entities filing with the Commission use an FRN.

The OMB approved revisions to the previously approved collection of information under OMB Control Number 3060-0800 to permit the collection of the additional information for Commission licenses and permits, pursuant to the rules and information collection requirements adopted by the Commission in the Part 1 R&O and the Mobile Spectrum Holdings R&O. As part of the collection, the Commission is seeking approval for the information collection and recordkeeping requirements associated with FCC Form 603.

In addition, OMB approved various other, non-substantive editorial/consistency edits and updates to FCC Form 603 that corrected inconsistent capitalization of words and other typographical errors, and better align the text on the form with the text in the Commission rules both generally and in connection with recent non-substantive, organizational amendments to the Commission's rules. Also, in certain circumstances, the Commission requires the applicant to provide copies of their agreements. The Commission did not anticipate that these revisions will impact the collection filing burden. OMB therefore approved the FCC revision of its currently approved information collection on FCC Form 603 to revise FCC Form 603 accordingly.

OMB Control Number: 3060-1058.

OMB Approval Date: June 8, 2017.

OMB Expiration Date: June 30, 2020.

Title: FCC Application or Notification for Spectrum Leasing Arrangement: Wireless Telecommunications Bureau and/or Public Safety and Homeland Security Bureau.

Form Number: FCC Form 608. Respondents: Business or other for profit entities; Not-for-profit institutions; and State, local or tribal government.

Number of Respondents and Responses: 991 respondents; 991 responses.

Estimated Time per Response: 0.5-1 hours.

Frequency of Response: Recordkeeping requirement, on occasion reporting requirement and periodic reporting requirement.

Obligation to Respond: Required to obtain or retain benefits. Statutory authority for this collection of information is contained in 47 U.S.C. 154, 155, 158, 161, 301, 303(r), 308, 309, 310 and 332.

Total Annual Burden: 996 hours.

Total Annual Cost: $1,282,075.

Nature and Extent of Confidentiality: In general there is no need for confidentiality with this collection of information.

Privacy Act Impact Assessment: No impact(s).

Needs and Uses: FCC Form 608 is a multipurpose form. It is used to provide notification or request approval for any spectrum leasing arrangement (“Leases”) entered into between an existing licensee (“Licensee”) in certain wireless services and a spectrum lessee (“Lessee”). This form also is required to notify or request approval for any spectrum subleasing arrangement (“Sublease”). The data collected on the form is used by the FCC to determine whether the public interest would be served by the Lease or Sublease. The form is also used to provide notification for any Private Commons Arrangement entered into between a Licensee, Lessee, or Sublessee and a class of third-party users (as defined in Section 1.9080 of the Commission's Rules).

The OMB approved revisions to the previously approved collection of information under OMB Control Number 3060-1058 to permit the collection of the additional information for Commission licenses and permits, pursuant to the rules and information collection requirements adopted by the Commission in the Part 1 R&O and the Mobile Spectrum Holdings R&O. As part of the collection, the Commission is seeking approval for the information collection and recordkeeping requirements associated with FCC Form 608.

In addition, OMB approved various other, non-substantive editorial/consistency edits and updates to FCC Form 608 that corrected inconsistent capitalization of words and other typographical errors, and better align the text on the form with the text in the Commission rules both generally and in connection with recent non-substantive, organizational amendments to the Commission's rules. Also, in certain circumstances, the Commission requires the applicant to provide copies of their agreements. The Commission did not anticipate that these revisions will impact the collection filing burden. OMB therefore approved the FCC revision of its currently approved information collection on FCC Form 608 to revise FCC Form 608 accordingly.

Federal Communications Commission.
Marlene H. Dortch,
Secretary, Office of the Secretary.

[FR Doc. 2017-12954 Filed 6-29-17; 8:45 am]

BILLING CODE 6712-01-P